Title 3—

The President

Proclamation 7546 of April 23, 2002

National Park Week, 2002

By the President of the United States of America

A Proclamation

Our national park system helps preserve our history, heritage, and the natural beauty of our Nation for the enjoyment of all our citizens and many international visitors. Thanks to our park system, many of these treasures retain their original beauty and grandeur. The parks are places for recreation, education, and reflection, and we must take care of them in a way that preserves them for posterity.

In 1872, the Congress established in the Territories of Montana and Wyoming what we all know now as Yellowstone National Park. This beautiful area later became the first to be designated as a national park. Our national park system was established in 1916 to protect and maintain our natural resources and historic sites. Today, there are 385 national parks on 84 million acres, visited annually by 280 million people from around the world.

My Administration's “National Parks Legacy Project” was initiated to ensure proper care for our national park system. Through thoughtful and diligent efforts, the National Parks Legacy Project will enhance the parks' ecosystems, improve outdoor opportunities, address infrastructure needs, and establish accountability through performance goals. The National Parks Legacy Project and other actions such as our support for the Everglades Restoration Plan and our request to fully fund the Land and Water Conservation Fund are important steps to support existing and future parks, vital habitats, and threatened ecosystems. I have asked the Secretary of the Interior to prepare an annual report on the conditions of our national parks and to offer specific recommendations for improvements.

We must also pay tribute to the role that the dedicated 20,000 men and women of the National Park Service play in preserving our parks. Each day these professionals and more than 120,000 volunteers work to make national parks accessible, safe, educational, and well maintained. Their job is critical to the future of our parks and national treasures, and America is grateful.

NOW, THEREFORE, I, GEORGE W. BUSH, President of the United States of America, by virtue of the authority vested in me by the Constitution and laws of the United States, do hereby proclaim April 22 through April 28, 2002, as National Park Week. I call upon all the people of the United States to join me in recognizing the importance of national parks and to learn more about these areas of beauty and their historical importance.

IN WITNESS WHEREOF, I have hereunto set my hand this twenty-third day of April, in the year of our Lord two thousand two, and of the Independence of the United States of America the two hundred and twenty-sixth.

B

[FR Doc. 02-10424

Filed 04-24-02; 11:22 am]

Billing code 3195-01-P